UNITED STATES INSTITUTE OF PEACE

Notice of Meeting

AGENCY: United States Institute of Peace.

Date/Time: Thursday, January 14, 2010, 9 a.m.-3:30 p.m.

Location: 1200 17th Street, NW., Suite 200, Washington, DC 20036-3011.

Status: Open Session—Portions may be closed pursuant to Subsection (c) of Section 552(b) of Title 5, United States Code, as provided in subsection 1706(h)(3) of the United States Institute of Peace Act, Public Law 98-525.

Agenda: January 14, 2010 Board Meeting; Approval of Minutes of the One Hundred Thirty-Fifth Meeting (October 13, 2009) of the Board of Directors; Chairman's Report; President's Report; Review of Major Achievements 2009; Budget and Congressional Updates; Updates on Afghanistan/Pakistan and Iraq; Other General Issues.

Contact: Tessie F. Higgs, Executive Office, Telephone: (202) 429-3836.

Dated: December 29, 2009.
Tara Sonenshine,
Executive Vice President, United States Institute of Peace.

[FR Doc. E9-31145 Filed 1-4-10; 8:45 am]

BILLING CODE 6820-AR-M